DEPARTMENT OF TRANSPORTATION

Federal Aviation Administration

Notice of Intent To Rule on Application 03-05-C-00-AOO To Impose, and Impose and Use the Revenue From a Passenger Facility Charge (PFC) at Altoona-Blair County Airport, Martinsburg, PA

AGENCY: Federal Aviation Administration (FAA), DOT.

ACTION: Notice of Intent to Rule on Application, correction.

SUMMARY: This correction revises information from the previously published notice. In notice document 03-28826 beginning on page 65342 in the issue of Wednesday, November 19, 2003, under the SUPPLEMENTARY INFORMATION section, first paragraph, the substantially complete date should be October 3, 2003.

DATES: Comments must be received on or before December 31, 2003.

FOR FURTHER INFORMATION CONTACT: Lori Ledebohm, Community Planner/PFC contact, Harrisburg Airports District Office, 3905 Hartzdale Drive, Suite 508, Camp Hill, PA 17011, 717-730-2855. The application may be reviewed in person at this same location.

Issued in Camp Hill, PA on November 21, 2003.
Lori Ledebohm,
PFC Coordinator, Harrisburg Airports District Office, Eastern Region.

[FR Doc. 03-29845 Filed 11-28-03; 8:45 am]

BILLING CODE 4910-13-M